DEPARTMENT OF DEFENSE

Department of the Army

Board of Visitors, United States Military Academy (USMA)

AGENCY: Department of the Army, DoD.

ACTION: Notice of open meeting; postponed.

SUMMARY: The meeting originally scheduled for Friday, November 16, 2007, that was published in the Federal Register on October 25, 2007 (72 FR 60662) has been postponed. The meeting has tentatively been rescheduled for Friday, December 7, 2007 at West Point, NY.

FOR FURTHER INFORMATION CONTACT: Ms. Cynthia Kramer, United States Military Academy, West Point, NY 10996-5000, (845) 938-5078 or via e-mail: Cynthia.kramer@usma.edu.

SUPPLEMENTARY INFORMATION: None.

Brenda S. Bowen,
Army Federal Register Liaison Officer.

[FR Doc. E7-22328 Filed 11-14-07; 8:45 am]

BILLING CODE 3710-08-P